DEPARTMENT OF JUSTICE

Office of Justice Programs

[OJP (NIJ) Docket No. 1706]

Public Safety Bomb Suit Standard, NIJ Standard-0117.01

AGENCY: National Institute of Justice, Justice.

ACTION: Notice.

SUMMARY: The National Institute of Justice (NIJ) announces publication of Public Safety Bomb Suit Standard, NIJ Standard-0117.01. The document can be found here: https://www.ncjrs.gov/pdffiles1/nij/249560.pdf. This revised standard supersedes Public Safety Bomb Suit Standard, NIJ Standard-0117.00, effective immediately. Any feedback regarding this standard should be directed to the point of contact listed below. For more information about NIJ standards, please visit http://nij.gov/standards.

FOR FURTHER INFORMATION CONTACT: Brian Montgomery, by telephone at (202) 353-9786 [Note: this is not a toll-free telephone number], or by email at brian.montgomery@usdoj.gov.

Nancy Rodriguez,
Director, National Institute of Justice.

[FR Doc. 2016-09572 Filed 4-22-16; 8:45 am]

BILLING CODE 4410-18-P